SMALL BUSINESS ADMINISTRATION

13 CFR Part 121

RIN: 3245-AE99

Small Business Size Standards; Size Standards by 2002 North American Industry Classification System

AGENCY: Small Business Administration (SBA).

ACTION: Proposed rule; correction.

SUMMARY: The U.S. Small Business Administration (SBA) is correcting the proposed rule it published in the Federal Register on August 13, 2002, that would amend its Small Business Size Regulations by incorporating the Office of Management and Budget's (OMB) 2002 modifications of the North American Industry Classification System (NAICS) into its table of small business size standards. The proposed rule published on August 13, 2002, contained a number of formatting errors that could make it difficult for some readers to distinguish between size standards defined in millions of dollars and those defined in number of employees. This correction contains a new table of size standards to clearly identify size standards by millions of dollars and by number of employees.

DATES: SBA must receive comments to the proposed rule on or before September 12, 2002.

ADDRESSES: Address all comments concerning the proposed rule to Gary M. Jackson, Assistant Administrator for Size Standards, Office of Size Standards, 409 Third Street, SW, Washington, DC 20416; via email to sizestandards@sba.gov; or via facsimile, (202) 205-6390. SBA will make all public comments available to any person or concern upon request.

FOR FURTHER INFORMATION CONTACT: Carl Jordan, Office of Size Standards, at (202) 205-6618 or sizestandards@sba.gov.

SUPPLEMENTARY INFORMATION: SBA published a proposed rule in the Federal Register on August 13, 2002, (67 FR 52597) to amend its Small Business Size Regulations by incorporating the Office of Management and Budget's (OMB) 2002 modifications of the North American Industry Classification System (NAICS) into its table of small business size standards. These modifications are limited to industries in six (6) NAICS Sectors. The modifications result in a small number of size standard changes to certain NAICS activities. The proposed rule published in the Federal Register on August 13, 2002, did not include dollar signs for many of the monetary-based size standards. This correction revises the size standards table by listing size standards by millions of dollars and number of employees in separate columns.

In rule FR Doc. 02-20358 published on August 13, 2002 (67 FR 52633) make the following correction.

On page 52638, in the third column, correct amendatory instruction number 3 as follows:

3. Amend § 121.201 by revising the table of size standards to read as follows:

Small Business Size Standards by NAICS Industry
NAICS codes | NAICS U.S. industry title | Size standards in millions of dollars | Size standards in number of employees
Sector 11—Agriculture, Forestry, Fishing and Hunting
Subsector 111—Crop Production
111110 | Soybean Farming | $0.75 |
111120 | Oilseed (except Soybean) Farming | $0.75 |
111130 | Dry Pea and Bean Farming | $0.75 |
111140 | Wheat Farming | $0.75 |
111150 | Corn Farming | $0.75 |
111160 | Rice Farming | $0.75 |
111191 | Oilseed and Grain Combination Farming | $0.75 |
111199 | All Other Grain Farming | $0.75 |
111211 | Potato Farming | $0.75 |
111219 | Other Vegetable (except Potato) and Melon Farming | $0.75 |
111310 | Orange Groves | $0.75 |
111320 | Citrus (except Orange) Groves | $0.75 |
111331 | Apple Orchards | $0.75 |
111332 | Grape Vineyards | $0.75 |
111333 | Strawberry Farming | $0.75 |
111334 | Berry (except Strawberry) Farming | $0.75 |
111335 | Tree Nut Farming | $0.75 |
111336 | Fruit and Tree Nut Combination Farming | $0.75 |
111339 | Other Noncitrus Fruit Farming | $0.75 |
111411 | Mushroom Production | $0.75 |
111419 | Other Food Crops Grown Under Cover | $0.75 |
111421 | Nursery and Tree Production | $0.75 |
111422 | Floriculture Production | $0.75 |
111910 | Tobacco Farming | $0.75 |
111920 | Cotton Farming | $0.75 |
111930 | Sugarcane Farming | $0.75 |
111940 | Hay Farming | $0.75 |
111991 | Sugar Beet Farming | $0.75 |
111992 | Peanut Farming | $0.75 |
111998 | All Other Miscellaneous Crop Farming | $0.75 |
Subsector 112—Animal Production
112111 | Beef Cattle Ranching and Farming | $0.75 |
112112 | Cattle Feedlots | $1.50 |
112120 | Dairy Cattle and Milk Production | $0.75 |
112210 | Hog and Pig Farming | $0.75 |
112310 | Chicken Egg Production | $10.50 |
112320 | Broilers and Other Meat Type Chicken Production | $0.75 |
112330 | Turkey Production | $0.75 |
112340 | Poultry Hatcheries | $0.75 |
112390 | Other Poultry Production | $0.75 |
112410 | Sheep Farming | $0.75 |
112420 | Goat Farming | $0.75 |
112511 | Finfish Farming and Fish Hatcheries | $0.75 |
112512 | Shellfish Farming | $0.75 |
112519 | Other Animal Aquaculture | $0.75 |
112910 | Apiculture | $0.75 |
112920 | Horse and Other Equine Production | $0.75 |
112930 | Fur-Bearing Animal and Rabbit Production | $0.75 |
112990 | All Other Animal Production | $0.75 |
Subsector 113—Forestry and Logging
113110 | Timber Tract Operations | $6.0 |
113210 | Forest Nurseries and Gathering of Forest Products | $6.0 |
113310 | Logging |  | 500
Subsector 114—Fishing, Hunting and Trapping
114111 | Finfish Fishing | $3.5 |
114112 | Shellfish Fishing | $3.5 |
114119 | Other Marine Fishing | $3.5 |
114210 | Hunting and Trapping | $3.5 |
Subsector 115—Support Activities for Agriculture and Forestry
115111 | Cotton Ginning | $6.0 |
115112 | Soil Preparation, Planting, and Cultivating | $6.0 |
115113 | Crop Harvesting, Primarily by Machine | $6.0 |
115114 | Postharvest Crop Activities (except Cotton Ginning) | $6.0 |
115115 | Farm Labor Contractors and Crew Leaders | $6.0 |
115116 | Farm Management Services | $6.0 |
115210 | Support Activities for Animal Production | $6.0 |
115310 | Support Activities for Forestry | $6.0 |
Sector 21—Mining
Subsector 211—Oil and Gas Extraction
211111 | Crude Petroleum and Natural Gas Extraction |  | 500
211112 | Natural Gas Liquid Extraction |  | 500
Subsector 212—Mining (except Oil and Gas)
212111 | Bituminous Coal and Lignite Surface Mining |  | 500
212112 | Bituminous Coal Underground Mining |  | 500
212113 | Anthracite Mining |  | 500
212210 | Iron Ore Mining |  | 500
212221 | Gold Ore Mining |  | 500
212222 | Silver Ore Mining |  | 500
212231 | Lead Ore and Zinc Ore Mining |  | 500
212234 | Copper Ore and Nickel Ore Mining |  | 500
212291 | Uranium-Radium-Vanadium Ore Mining |  | 500
212299 | All Other Metal Ore Mining |  | 500
212311 | Dimension Stone Mining and Quarrying |  | 500
212312 | Crushed and Broken Limestone Mining and Quarrying |  | 500
212313 | Crushed and Broken Granite Mining and Quarrying |  | 500
212319 | Other Crushed and Broken Stone Mining and Quarrying |  | 500
212321 | Construction Sand and Gravel Mining |  | 500
212322 | Industrial Sand Mining |  | 500
212324 | Kaolin and Ball Clay Mining |  | 500
212325 | Clay and Ceramic and Refractory Minerals Mining |  | 500
212391 | Potash, Soda, and Borate Mineral Mining |  | 500
212392 | Phosphate Rock Mining |  | 500
212393 | Other Chemical and Fertilizer Mineral Mining |  | 500
212399 | All Other Nonmetallic Mineral Mining |  | 500
Subsector 213—Support Activities for Mining
213111 | Drilling Oil and Gas Wells |  | 500
213112 | Support Activities for Oil and Gas Operations | $6.0 |
213113 | Support Activities for Coal Mining | $6.0 |
213114 | Support Activities for Metal Mining | $6.0 |
213115 | Support Activities for Nonmetallic Minerals (except Fuels) | $6.0 |
Sector 22—Utilities
Subsector 221—Utilities
221111 | Hydroelectric Power Generation | See footnote 1 |
221112 | Fossil Fuel Electric Power Generation | See footnote 1 |
221113 | Nuclear Electric Power Generation | See footnote 1 |
221119 | Other Electric Power Generation | See footnote 1 |
221121 | Electric Bulk Power Transmission and Control | See footnote 1 |
221122 | Electric Power Distribution | See footnote 1 |
221210 | Natural Gas Distribution |  | 500
221310 | Water Supply and Irrigation Systems | $6.0 |
221320 | Sewage Treatment Facilities | $6.0 |
221330 | Steam and Air-Conditioning Supply | $10.5 |
Sector 23—Construction
Subsector 236—Construction of Buildings
236115 | New Single-Family Housing Construction (except Operative Builders) | $28.5 |
236116 | New Multifamily Housing Construction (except Operative Builders) | $28.5 |
236117 | New Housing Operative Builders | $28.5 |
236118 | Residential Remodelers | $28.5 |
236210 | Industrial Building Construction | $28.5 |
236220 | Commercial and Institutional Building Construction | $28.5 |
Subsector 237—Heavy and Civil Engineering Construction
237110 | Water and Sewer Line and Related Structures Construction | $28.5 |
237120 | Oil and Gas Pipeline and Related Structures Construction | $28.5 |
237130 | Power and Communication Line and Related Structures Construction | $28.5 |
237210 | Land Subdivision | $6.0 |
237310 | Highway, Street, and Bridge Construction | $28.5 |
237990 | Other Heavy and Civil Engineering Construction | $28.5 |
EXCEPT, | Dredging and Surface Cleanup Activities ² | ² $17.0 |
Subsector 238—Specialty Trade Contractors
238110 | Poured Concrete Foundation and Structure Contractors | $12.0 |
238120 | Structural Steel and Precast Concrete Contractors | $12.0 |
238130 | Framing Contractors | $12.0 |
238140 | Masonry Contractors | $12.0 |
238150 | Glass and Glazing Contractors | $12.0 |
238160 | Roofing Contractors | $12.0 |
238170 | Siding Contractors | $12.0 |
238190 | Other Foundation, Structure, and Building Exterior Contractors | $12.0 |
238210 | Electrical Contractors | $12.0 |
238220 | Plumbing, Heating, and Air-Conditioning Contractors | $12.0 |
238290 | Other Building Equipment Contractors | $12.0 |
238310 | Drywall and Insulation Contractors | $12.0 |
238320 | Painting and Wall Covering Contractors | $12.0 |
238330 | Flooring Contractors | $12.0 |
238340 | Tile and Terrazzo Contractors | $12.0 |
238350 | Finish Carpentry Contractors | $12.0 |
238390 | Other Building Finishing Contractors | $12.0 |
238910 | Site Preparation Contractors | $12.0 |
238990 | All Other Specialty Trade Contractors | $12.0 |
EXCEPT, | Base Housing Maintenance ¹³ | ¹³ $12.0 |
Sectors 31-33—Manufacturing
Subsector 311—Food Manufacturing
311111 | Dog and Cat Food Manufacturing |  | 500
311119 | Other Animal Food Manufacturing |  | 500
311211 | Flour Milling |  | 500
311212 | Rice Milling |  | 500
311213 | Malt Manufacturing |  | 500
311221 | Wet Corn Milling |  | 750
311222 | Soybean Processing |  | 500
311223 | Other Oilseed Processing |  | 1,000
311225 | Fats and Oils Refining and Blending |  | 1,000
311230 | Breakfast Cereal Manufacturing |  | 1,000
311311 | Sugarcane Mills |  | 500
311312 | Cane Sugar Refining |  | 750
311313 | Beet Sugar Manufacturing |  | 750
311320 | Chocolate and Confectionery Manufacturing from Cacao Beans |  | 500
311330 | Confectionery Manufacturing from Purchased Chocolate |  | 500
311340 | Non-Chocolate Confectionery Manufacturing |  | 500
311411 | Frozen Fruit, Juice and Vegetable Manufacturing |  | 500
311412 | Frozen Specialty Food Manufacturing |  | 500
311421 | Fruit and Vegetable Canning³ |  | ³500
311422 | Specialty Canning |  | 1,000
311423 | Dried and Dehydrated Food Manufacturing |  | 500
311511 | Fluid Milk Manufacturing |  | 500
311512 | Creamery Butter Manufacturing |  | 500
311513 | Cheese Manufacturing |  | 500
311514 | Dry, Condensed, and Evaporated Dairy Product Manufacturing |  | 500
311520 | Ice Cream and Frozen Dessert Manufacturing |  | 500
311611 | Animal (except Poultry) Slaughtering |  | 500
311612 | Meat Processed from Carcasses |  | 500
311613 | Rendering and Meat By-product Processing |  | 500
311615 | Poultry Processing |  | 500
311711 | Seafood Canning |  | 500
311712 | Fresh and Frozen Seafood Processing |  | 500
311811 | Retail Bakeries |  | 500
311812 | Commercial Bakeries |  | 500
311813 | Frozen Cakes, Pies, and Other Pastries Manufacturing |  | 500
311821 | Cookie and Cracker Manufacturing |  | 750
311822 | Flour Mixes and Dough Manufacturing from Purchased Flour |  | 500
311823 | Dry Pasta Manufacturing |  | 500
311830 | Tortilla Manufacturing |  | 500
311911 | Roasted Nuts and Peanut Butter Manufacturing |  | 500
311919 | Other Snack Food Manufacturing |  | 500
311920 | Coffee and Tea Manufacturing |  | 500
311930 | Flavoring Syrup and Concentrate Manufacturing |  | 500
311941 | Mayonnaise, Dressing and Other Prepared Sauce Manufacturing |  | 500
311942 | Spice and Extract Manufacturing |  | 500
311991 | Perishable Prepared Food Manufacturing |  | 500
311999 | All Other Miscellaneous Food Manufacturing |  | 500
Subsector 312—Beverage and Tobacco Product Manufacturing
312111 | Soft Drink Manufacturing |  | 500
312112 | Bottled Water Manufacturing |  | 500
312113 | Ice Manufacturing |  | 500
312120 | Breweries |  | 500
312130 | Wineries |  | 500
312140 | Distilleries |  | 750
312210 | Tobacco Stemming and Redrying |  | 500
312221 | Cigarette Manufacturing |  | 1,000
312229 | Other Tobacco Product Manufacturing |  | 500
Subsector 313—Textile Mills
313111 | Yarn Spinning Mills |  | 500
313112 | Yarn Texturizing, Throwing and Twisting Mills |  | 500
311313 | Thread Mills |  | 500
313210 | Broadwoven Fabric Mills |  | 1,000
313221 | Narrow Fabric Mills |  | 500
313222 | Schiffli Machine Embroidery |  | 500
313230 | Nonwoven Fabric Mills |  | 500
313241 | Weft Knit Fabric Mills |  | 500
313249 | Other Knit Fabric and Lace Mills |  | 500
313311 | Broadwoven Fabric Finishing Mills |  | 1,000
313312 | Textile and Fabric Finishing (except Broadwoven Fabric) Mills |  | 500
313320 | Fabric Coating Mills |  | 1,000
Subsector 314—Textile Product Mills
314110 | Carpet and Rug Mills |  | 500
314121 | Curtain and Drapery Mills |  | 500
314129 | Other Household Textile Product Mills |  | 500
314911 | Textile Bag Mills |  | 500
314912 | Canvas and Related Product Mills |  | 500
314991 | Rope, Cordage and Twine Mills |  | 500
314992 | Tire Cord and Tire Fabric Mills |  | 1,000
314999 | All Other Miscellaneous Textile Product Mills |  | 500
Subsector 315—Apparel Manufacturing
315111 | Sheer Hosiery Mills |  | 500
315119 | Other Hosiery and Sock Mills |  | 500
315191 | Outerwear Knitting Mills |  | 500
315192 | Underwear and Nightwear Knitting Mills |  | 500
315211 | Men's and Boys' Cut and Sew Apparel Contractors |  | 500
315212 | Women's, Girls', and Infants' Cut and Sew Apparel Contractors |  | 500
315221 | Men's and Boys' Cut and Sew Underwear and Nightwear Manufacturing |  | 500
315222 | Men's and Boys' Cut and Sew Suit, Coat and Overcoat Manufacturing |  | 500
315223 | Men's and Boys' Cut and Sew Shirt (except Work Shirt) Manufacturing |  | 500
315224 | Men's and Boys' Cut and Sew Trouser, Slack and Jean Manufacturing |  | 500
315225 | Men's and Boys' Cut and Sew Work Clothing Manufacturing |  | 500
315228 | Men's and Boys' Cut and Sew Other Outerwear Manufacturing |  | 500
315231 | Women's and Girls' Cut and Sew Lingerie, Loungewear and Nightwear Manufacturing |  | 500
315232 | Women's and Girls' Cut and Sew Blouse and Shirt Manufacturing |  | 500
315233 | Women's and Girls' Cut and Sew Dress Manufacturing |  | 500
315234 | Women's and Girls' Cut and Sew Suit, Coat, Tailored Jacket and Skirt Manufacturing |  | 500
315239 | Women's and Girls' Cut and Sew Other Outerwear Manufacturing |  | 500
315291 | Infants' Cut and Sew Apparel Manufacturing |  | 500
315292 | Fur and Leather Apparel Manufacturing |  | 500
315299 | All Other Cut and Sew Apparel Manufacturing |  | 500
315991 | Hat, Cap and Millinery Manufacturing |  | 500
315992 | Glove and Mitten Manufacturing |  | 500
315993 | Men's and Boys' Neckwear Manufacturing |  | 500
315999 | Other Apparel Accessories and Other Apparel Manufacturing |  | 500
Subsector 316—Leather and Allied Product Manufacturing
316110 | Leather and Hide Tanning and Finishing |  | 500
316211 | Rubber and Plastics Footwear Manufacturing |  | 1,000
316212 | House Slipper Manufacturing |  | 500
316213 | Men's Footwear (except Athletic) Manufacturing |  | 500
316214 | Women's Footwear (except Athletic) Manufacturing |  | 500
316219 | Other Footwear Manufacturing |  | 500
316991 | Luggage Manufacturing |  | 500
316992 | Women's Handbag and Purse Manufacturing |  | 500
316993 | Personal Leather Good (except Women's Handbag and Purse) Manufacturing |  | 500
316999 | All Other Leather Good Manufacturing |  | 500
Subsector 321—Wood Product Manufacturing
321113 | Sawmills |  | 500
321114 | Wood Preservation |  | 500
321211 | Hardwood Veneer and Plywood Manufacturing |  | 500
321212 | Softwood Veneer and Plywood Manufacturing |  | 500
321213 | Engineered Wood Member (except Truss) Manufacturing |  | 500
321214 | Truss Manufacturing |  | 500
321219 | Reconstituted Wood Product Manufacturing |  | 500
321911 | Wood Window and Door Manufacturing |  | 500
321912 | Cut Stock, Resawing Lumber, and Planing |  | 500
321918 | Other Millwork (including Flooring) |  | 500
321920 | Wood Container and Pallet Manufacturing |  | 500
321991 | Manufactured Home (Mobile Home) Manufacturing |  | 500
321992 | Prefabricated Wood Building Manufacturing |  | 500
321999 | All Other Miscellaneous Wood Product Manufacturing |  | 500
Subsector 322—Paper Manufacturing
322110 | Pulp Mills |  | 750
322121 | Paper (except Newsprint) Mills |  | 750
322122 | Newsprint Mills |  | 750
322130 | Paperboard Mills |  | 750
322211 | Corrugated and Solid Fiber Box Manufacturing |  | 500
322212 | Folding Paperboard Box Manufacturing |  | 750
322213 | Setup Paperboard Box Manufacturing |  | 500
322214 | Fiber Can, Tube, Drum, and Similar Products Manufacturing |  | 500
322215 | Non-Folding Sanitary Food Container Manufacturing |  | 750
322221 | Coated and Laminated Packaging Paper and Plastics Film Manufacturing |  | 500
322222 | Coated and Laminated Paper Manufacturing |  | 500
322223 | Plastics, Foil, and Coated Paper Bag Manufacturing |  | 500
322224 | Uncoated Paper and Multiwall Bag Manufacturing |  | 500
322225 | Laminated Aluminum Foil Manufacturing for Flexible Packaging Uses |  | 500
322226 | Surface-Coated Paperboard Manufacturing |  | 500
322231 | Die-Cut Paper and Paperboard Office Supplies Manufacturing |  | 500
322232 | Envelope Manufacturing |  | 500
322233 | Stationery, Tablet, and Related Product Manufacturing |  | 500
322291 | Sanitary Paper Product Manufacturing |  | 500
322299 | All Other Converted Paper Product Manufacturing |  | 500
Subsector 323—Printing and Related Support Activities
323110 | Commercial Lithographic Printing |  | 500
323111 | Commercial Gravure Printing |  | 500
323112 | Commercial Flexographic Printing |  | 500
323113 | Commercial Screen Printing |  | 500
323114 | Quick Printing |  | 500
323115 | Digital Printing |  | 500
323116 | Manifold Business Forms Printing |  | 500
323117 | Books Printing |  | 500
323118 | Blankbook, Loose-leaf Binder and Device Manufacturing |  | 500
323119 | Other Commercial Printing |  | 500
323121 | Tradebinding and Related Work |  | 500
323122 | Prepress Services |  | 500
Subsector 324—Petroleum and Coal Products Manufacturing
324110 | Petroleum Refineries ⁴ |  | ⁴ 1,500
324121 | Asphalt Paving Mixture and Block Manufacturing |  | 500
324122 | Asphalt Shingle and Coating Materials Manufacturing |  | 750
324191 | Petroleum Lubricating Oil and Grease Manufacturing |  | 500
324199 | All Other Petroleum and Coal Products Manufacturing |  | 500
Subsector 325—Chemical Manufacturing
325110 | Petrochemical Manufacturing |  | 1,000
325120 | Industrial Gas Manufacturing |  | 1,000
325131 | Inorganic Dye and Pigment Manufacturing |  | 1,000
325132 | Synthetic Organic Dye and Pigment Manufacturing |  | 750
325181 | Alkalies and Chlorine Manufacturing |  | 1,000
325182 | Carbon Black Manufacturing |  | 500
325188 | All Other Basic Inorganic Chemical Manufacturing |  | 1,000
325191 | Gum and Wood Chemical Manufacturing |  | 500
325192 | Cyclic Crude and Intermediate Manufacturing |  | 750
325193 | Ethyl Alcohol Manufacturing |  | 1,000
325199 | All Other Basic Organic Chemical Manufacturing |  | 1,000
325211 | Plastics Material and Resin Manufacturing |  | 750
325212 | Synthetic Rubber Manufacturing |  | 1,000
325221 | Cellulosic Organic Fiber Manufacturing |  | 1,000
325222 | Noncellulosic Organic Fiber Manufacturing |  | 1,000
325311 | Nitrogenous Fertilizer Manufacturing |  | 1,000
325312 | Phosphatic Fertilizer Manufacturing |  | 500
325314 | Fertilizer (Mixing Only) Manufacturing |  | 500
325320 | Pesticide and Other Agricultural Chemical Manufacturing |  | 500
325411 | Medicinal and Botanical Manufacturing |  | 750
325412 | Pharmaceutical Preparation Manufacturing |  | 750
325413 | In-Vitro Diagnostic Substance Manufacturing |  | 500
325414 | Biological Product (except Diagnostic) Manufacturing |  | 500
325510 | Paint and Coating Manufacturing |  | 500
325520 | Adhesive Manufacturing |  | 500
325611 | Soap and Other Detergent Manufacturing |  | 750
325612 | Polish and Other Sanitation Good Manufacturing |  | 500
325613 | Surface Active Agent Manufacturing |  | 500
325620 | Toilet Preparation Manufacturing |  | 500
325910 | Printing Ink Manufacturing |  | 500
325920 | Explosives Manufacturing |  | 750
325991 | Custom Compounding of Purchased Resins |  | 500
325992 | Photographic Film, Paper, Plate and Chemical Manufacturing |  | 500
325998 | All Other Miscellaneous Chemical Product and Preparation Manufacturing |  | 500
Subsector 326—Plastics and Rubber Products Manufacturing
326111 | Unsupported Plastics Bag Manufacturing |  | 500
326112 | Unsupported Plastics Packaging Film and Sheet Manufacturing |  | 500
326113 | Unsupported Plastics Film and Sheet (except Packaging) Manufacturing |  | 500
326121 | Unsupported Plastics Profile Shapes Manufacturing |  | 500
326122 | Plastics Pipe and Pipe Fitting Manufacturing |  | 500
326130 | Laminated Plastics Plate, Sheet and Shape Manufacturing |  | 500
326140 | Polystyrene Foam Product Manufacturing |  | 500
326150 | Urethane and Other Foam Product (except Polystyrene) Manufacturing |  | 500
326160 | Plastics Bottle Manufacturing |  | 500
326191 | Plastics Plumbing Fixture Manufacturing |  | 500
326192 | Resilient Floor Covering Manufacturing |  | 750
326199 | All Other Plastics Product Manufacturing |  | 500
326211 | Tire Manufacturing (except Retreading) ⁵ |  | ⁵ 1,000
326212 | Tire Retreading |  | 500
326220 | Rubber and Plastics Hoses and Belting Manufacturing |  | 500
326291 | Rubber Product Manufacturing for Mechanical Use |  | 500
326299 | All Other Rubber Product Manufacturing |  | 500
Subsector 327—Nonmetallic Mineral Product Manufacturing
327111 | Vitreous China Plumbing Fixture and China and Earthenware Bathroom Accessories Manufacturing |  | 750
327112 | Vitreous China, Fine Earthenware and Other Pottery Product Manufacturing |  | 500
327113 | Porcelain Electrical Supply Manufacturing |  | 500
327121 | Brick and Structural Clay Tile Manufacturing |  | 500
327122 | Ceramic Wall and Floor Tile Manufacturing |  | 500
327123 | Other Structural Clay Product Manufacturing |  | 500
327124 | Clay Refractory Manufacturing |  | 500
327125 | Nonclay Refractory Manufacturing |  | 750
327211 | Flat Glass Manufacturing |  | 1,000
327212 | Other Pressed and Blown Glass and Glassware Manufacturing |  | 750
327213 | Glass Container Manufacturing |  | 750
327215 | Glass Product Manufacturing Made of Purchased Glass |  | 500
327310 | Cement Manufacturing |  | 750
327320 | Ready-Mix Concrete Manufacturing |  | 500
327331 | Concrete Block and Brick Manufacturing |  | 500
327332 | Concrete Pipe Manufacturing |  | 500
327390 | Other Concrete Product Manufacturing |  | 500
327410 | Lime Manufacturing |  | 500
327420 | Gypsum Product Manufacturing |  | 1,000
327910 | Abrasive Product Manufacturing |  | 500
327991 | Cut Stone and Stone Product Manufacturing |  | 500
327992 | Ground or Treated Mineral and Earth Manufacturing |  | 500
327993 | Mineral Wool Manufacturing |  | 750
327999 | All Other Miscellaneous Nonmetallic Mineral Product Manufacturing |  | 500
Subsector 331—Primary Metal Manufacturing
331111 | Iron and Steel Mills |  | 1,000
331112 | Electrometallurgical Ferroalloy Product Manufacturing |  | 750
331210 | Iron and Steel Pipe and Tube Manufacturing from Purchased Steel |  | 1,000
331221 | Cold-Rolled Steel Shape Manufacturing |  | 1,000
331222 | Steel Wire Drawing |  | 1,000
331311 | Alumina Refining |  | 1,000
331312 | Primary Aluminum Production |  | 1,000
331314 | Secondary Smelting and Alloying of Aluminum |  | 750
331315 | Aluminum Sheet, Plate and Foil Manufacturing |  | 750
331316 | Aluminum Extruded Product Manufacturing |  | 750
331319 | Other Aluminum Rolling and Drawing |  | 750
331411 | Primary Smelting and Refining of Copper |  | 1,000
331419 | Primary Smelting and Refining of Nonferrous Metal (except Copper and Aluminum) |  | 750
331421 | Copper Rolling, Drawing and Extruding |  | 750
331422 | Copper Wire (except Mechanical) Drawing |  | 1,000
331423 | Secondary Smelting, Refining, and Alloying of Copper |  | 750
331491 | Nonferrous Metal (except Copper and Aluminum) Rolling, Drawing and Extruding |  | 750
331492 | Secondary Smelting, Refining, and Alloying of Nonferrous Metal (except Copper and Aluminum) |  | 750
331511 | Iron Foundries |  | 500
331512 | Steel Investment Foundries |  | 500
331513 | Steel Foundries (except Investment) |  | 500
331521 | Aluminum Die-Casting Foundries |  | 500
331522 | Nonferrous (except Aluminum) Die- Casting Foundries |  | 500
331524 | Aluminum Foundries (except Die- Casting) |  | 500
331525 | Copper Foundries (except Die- Casting) |  | 500
331528 | Other Nonferrous Foundries (except Die-Casting) |  | 500
Subsector 332—Fabricated Metal Product Manufacturing
332111 | Iron and Steel Forging |  | 500
332112 | Nonferrous Forging |  | 500
332114 | Custom Roll Forming |  | 500
332115 | Crown and Closure Manufacturing |  | 500
332116 | Metal Stamping |  | 500
332117 | Powder Metallurgy Part Manufacturing |  | 500
332211 | Cutlery and Flatware (except Precious) Manufacturing |  | 500
332212 | Hand and Edge Tool Manufacturing |  | 500
332213 | Saw Blade and Handsaw Manufacturing |  | 500
332214 | Kitchen Utensil, Pot and Pan Manufacturing |  | 500
332311 | Prefabricated Metal Building and Component Manufacturing |  | 500
332312 | Fabricated Structural Metal Manufacturing |  | 500
332313 | Plate Work Manufacturing |  | 500
332321 | Metal Window and Door Manufacturing |  | 500
332322 | Sheet Metal Work Manufacturing |  | 500
332323 | Ornamental and Architectural Metal Work Manufacturing |  | 500
332410 | Power Boiler and Heat Exchanger Manufacturing |  | 500
332420 | Metal Tank (Heavy Gauge) Manufacturing |  | 500
332431 | Metal Can Manufacturing |  | 1,000
332439 | Other Metal Container Manufacturing |  | 500
332510 | Hardware Manufacturing |  | 500
332611 | Spring (Heavy Gauge) Manufacturing |  | 500
332612 | Spring (Light Gauge) Manufacturing |  | 500
332618 | Other Fabricated Wire Product Manufacturing |  | 500
332710 | Machine Shops |  | 500
332721 | Precision Turned Product Manufacturing |  | 500
332722 | Bolt, Nut, Screw, Rivet and Washer Manufacturing |  | 500
332811 | Metal Heat Treating |  | 750
332812 | Metal Coating, Engraving (except Jewelry and Silverware), and Allied Services to Manufacturers |  | 500
332813 | Electroplating, Plating, Polishing, Anodizing and Coloring |  | 500
332911 | Industrial Valve Manufacturing |  | 500
332912 | Fluid Power Valve and Hose Fitting Manufacturing |  | 500
332913 | Plumbing Fixture Fitting and Trim Manufacturing |  | 500
332919 | Other Metal Valve and Pipe Fitting Manufacturing |  | 500
332991 | Ball and Roller Bearing Manufacturing |  | 750
332992 | Small Arms Ammunition Manufacturing |  | 1,000
332993 | Ammunition (except Small Arms) Manufacturing |  | 1,500
332994 | Small Arms Manufacturing |  | 1,000
332995 | Other Ordnance and Accessories Manufacturing |  | 500
332996 | Fabricated Pipe and Pipe Fitting Manufacturing |  | 500
332997 | Industrial Pattern Manufacturing |  | 500
332998 | Enameled Iron and Metal Sanitary Ware Manufacturing |  | 750
332999 | All Other Miscellaneous Fabricated Metal Product Manufacturing |  | 500
Subsector 333—Machinery Manufacturing⁶
333111 | Farm Machinery and Equipment Manufacturing |  | 500
333112 | Lawn and Garden Tractor and Home Lawn and Garden Equipment Manufacturing |  | 500
333120 | Construction Machinery Manufacturing |  | 750
333131 | Mining Machinery and Equipment Manufacturing |  | 500
333132 | Oil and Gas Field Machinery and Equipment Manufacturing |  | 500
333210 | Sawmill and Woodworking Machinery Manufacturing |  | 500
333220 | Plastics and Rubber Industry Machinery Manufacturing |  | 500
333291 | Paper Industry Machinery Manufacturing |  | 500
333292 | Textile Machinery Manufacturing |  | 500
333293 | Printing Machinery and Equipment Manufacturing |  | 500
333294 | Food Product Machinery Manufacturing |  | 500
333295 | Semiconductor Machinery Manufacturing |  | 500
333298 | All Other Industrial Machinery Manufacturing |  | 500
333311 | Automatic Vending Machine Manufacturing |  | 500
333312 | Commercial Laundry, Drycleaning and Pressing Machine Manufacturing |  | 500
333313 | Office Machinery Manufacturing |  | 1,000
333314 | Optical Instrument and Lens Manufacturing |  | 500
333315 | Photographic and Photocopying Equipment Manufacturing |  | 500
333319 | Other Commercial and Service Industry Machinery Manufacturing |  | 500
333411 | Air Purification Equipment Manufacturing |  | 500
333412 | Industrial and Commercial Fan and Blower Manufacturing |  | 500
333414 | Heating Equipment (except Warm Air Furnaces) Manufacturing |  | 500
333415 | Air-Conditioning and Warm Air Heating Equipment and Commercial and Industrial Refrigeration Equipment Manufacturing |  | 750
333511 | Industrial Mold Manufacturing |  | 500
333512 | Machine Tool (Metal Cutting Types) Manufacturing |  | 500
333513 | Machine Tool (Metal Forming Types) Manufacturing |  | 500
333514 | Special Die and Tool, Die Set, Jig and Fixture Manufacturing |  | 500
333515 | Cutting Tool and Machine Tool Accessory Manufacturing |  | 500
333516 | Rolling Mill Machinery and Equipment Manufacturing |  | 500
333518 | Other Metalworking Machinery Manufacturing |  | 500
333611 | Turbine and Turbine Generator Set Unit Manufacturing |  | 1,000
333612 | Speed Changer, Industrial High-Speed Drive and Gear Manufacturing |  | 500
333613 | Mechanical Power Transmission Equipment Manufacturing |  | 500
333618 | Other Engine Equipment Manufacturing |  | 1,000
333911 | Pump and Pumping Equipment Manufacturing |  | 500
333912 | Air and Gas Compressor Manufacturing |  | 500
333913 | Measuring and Dispensing Pump Manufacturing |  | 500
333921 | Elevator and Moving Stairway Manufacturing |  | 500
333922 | Conveyor and Conveying Equipment Manufacturing |  | 500
333923 | Overhead Traveling Crane, Hoist and Monorail System Manufacturing |  | 500
333924 | Industrial Truck, Tractor, Trailer and Stacker Machinery Manufacturing |  | 750
333991 | Power-Driven Hand Tool Manufacturing |  | 500
333992 | Welding and Soldering Equipment Manufacturing |  | 500
333993 | Packaging Machinery Manufacturing |  | 500
333994 | Industrial Process Furnace and Oven Manufacturing |  | 500
333995 | Fluid Power Cylinder and Actuator Manufacturing |  | 500
333996 | Fluid Power Pump and Motor Manufacturing |  | 500
333997 | Scale and Balance (except Laboratory) Manufacturing |  | 500
333999 | All Other Miscellaneous General Purpose Machinery Manufacturing |  | 500
Subsector 334—Computer and Electronic Product Manufacturing ⁶
334111 | Electronic Computer Manufacturing |  | 1,000
334112 | Computer Storage Device Manufacturing |  | 1,000
334113 | Computer Terminal Manufacturing |  | 1,000
334119 | Other Computer Peripheral Equipment Manufacturing |  | 1,000
334210 | Telephone Apparatus Manufacturing |  | 1,000
334220 | Radio and Television Broadcasting and Wireless Communications Equipment Manufacturing |  | 750
334290 | Other Communications Equipment Manufacturing |  | 750
334310 | Audio and Video Equipment Manufacturing |  | 750
334411 | Electron Tube Manufacturing |  | 750
334412 | Bare Printed Circuit Board Manufacturing |  | 500
334413 | Semiconductor and Related Device Manufacturing |  | 500
334414 | Electronic Capacitor Manufacturing |  | 500
334415 | Electronic Resistor Manufacturing |  | 500
334416 | Electronic Coil, Transformer, and Other Inductor Manufacturing |  | 500
334417 | Electronic Connector Manufacturing |  | 500
334418 | Printed Circuit Assembly (Electronic Assembly) Manufacturing |  | 500
334419 | Other Electronic Component Manufacturing |  | 500
334510 | Electromedical and Electrotherapeutic Apparatus Manufacturing |  | 500
334511 | Search, Detection, Navigation, Guidance, Aeronautical, and Nautical System and Instrument Manufacturing |  | 750
334512 | Automatic Environmental Control Manufacturing for Residential, Commercial and Appliance Use |  | 500
334513 | Instruments and Related Products Manufacturing for Measuring, Displaying, and Controlling Industrial Process Variables |  | 500
334514 | Totalizing Fluid Meter and Counting Device Manufacturing |  | 500
334515 | Instrument Manufacturing for Measuring and Testing Electricity and Electrical Signals |  | 500
334516 | Analytical Laboratory Instrument Manufacturing |  | 500
334517 | Irradiation Apparatus Manufacturing |  | 500
334518 | Watch, Clock, and Part Manufacturing |  | 500
334519 | Other Measuring and Controlling Device Manufacturing |  | 500
334611 | Software Reproducing |  | 500
334612 | Prerecorded Compact Disc (except Software), Tape, and Record Reproducing |  | 750
334613 | Magnetic and Optical Recording Media Manufacturing |  | 1,000
Subsector 335—Electrical Equipment, Appliance and Component Manufacturing⁶
335110 | Electric Lamp Bulb and Part Manufacturing |  | 1,000
335121 | Residential Electric Lighting Fixture Manufacturing |  | 500
335122 | Commercial, Industrial and Institutional Electric Lighting Fixture Manufacturing |  | 500
335129 | Other Lighting Equipment Manufacturing |  | 500
335211 | Electric Housewares and Household Fan Manufacturing |  | 750
335212 | Household Vacuum Cleaner Manufacturing |  | 750
335221 | Household Cooking Appliance Manufacturing |  | 750
335222 | Household Refrigerator and Home Freezer Manufacturing |  | 1,000
335224 | Household Laundry Equipment Manufacturing |  | 1,000
335228 | Other Major Household Appliance Manufacturing |  | 500
335311 | Power, Distribution and Specialty Transformer Manufacturing |  | 750
335312 | Motor and Generator Manufacturing |  | 1,000
335313 | Switchgear and Switchboard Apparatus Manufacturing |  | 750
335314 | Relay and Industrial Control Manufacturing |  | 750
335911 | Storage Battery Manufacturing |  | 500
335912 | Primary Battery Manufacturing |  | 1,000
335921 | Fiber Optic Cable Manufacturing |  | 1,000
335929 | Other Communication and Energy Wire Manufacturing |  | 1,000
335931 | Current-Carrying Wiring Device Manufacturing |  | 500
335932 | Noncurrent-Carrying Wiring Device Manufacturing |  | 500
335991 | Carbon and Graphite Product Manufacturing |  | 750
335999 | All Other Miscellaneous Electrical Equipment and Component Manufacturing |  | 500
Subsector 336—Transportation Equipment Manufacturing ⁶
336111 | Automobile Manufacturing |  | 1,000
336112 | Light Truck and Utility Vehicle Manufacturing |  | 1,000
336120 | Heavy Duty Truck Manufacturing |  | 1,000
336211 | Motor Vehicle Body Manufacturing |  | 1,000
336212 | Truck Trailer Manufacturing |  | 500
336213 | Motor Home Manufacturing |  | 1,000
336214 | Travel Trailer and Camper Manufacturing |  | 500
336311 | Carburetor, Piston, Piston Ring and Valve Manufacturing |  | 500
336312 | Gasoline Engine and Engine Parts Manufacturing |  | 750
336321 | Vehicular Lighting Equipment Manufacturing |  | 500
336322 | Other Motor Vehicle Electrical and Electronic Equipment Manufacturing |  | 750
336330 | Motor Vehicle Steering and Suspension Components (except Spring) Manufacturing |  | 750
336340 | Motor Vehicle Brake System Manufacturing |  | 750
336350 | Motor Vehicle Transmission and Power Train Parts Manufacturing |  | 750
336360 | Motor Vehicle Seating and Interior Trim Manufacturing |  | 500
336370 | Motor Vehicle Metal Stamping |  | 500
336391 | Motor Vehicle Air-Conditioning Manufacturing |  | 750
336399 | All Other Motor Vehicle Parts Manufacturing |  | 750
336411 | Aircraft Manufacturing |  | 1,500
336412 | Aircraft Engine and Engine Parts Manufacturing |  | 1,000
336413 | Other Aircraft Part and Auxiliary Equipment Manufacturing ⁷ |  | ⁷ 1,000
336414 | Guided Missile and Space Vehicle Manufacturing |  | 1,000
336415 | Guided Missile and Space Vehicle Propulsion Unit and Propulsion Unit Parts Manufacturing |  | 1,000
336419 | Other Guided Missile and Space Vehicle Parts and Auxiliary Equipment Manufacturing |  | 1,000
336510 | Railroad Rolling Stock Manufacturing |  | 1,000
336611 | Ship Building and Repairing |  | 1,000
336612 | Boat Building |  | 500
336991 | Motorcycle, Bicycle and Parts Manufacturing |  | 500
336992 | Military Armored Vehicle, Tank and Tank Component Manufacturing |  | 1,000
336999 | All Other Transportation Equipment Manufacturing |  | 500
Subsector 337—Furniture and Related Product Manufacturing
337110 | Wood Kitchen Cabinet and Counter Top Manufacturing |  | 500
337121 | Upholstered Household Furniture Manufacturing |  | 500
337122 | Nonupholstered Wood Household Furniture Manufacturing |  | 500
337124 | Metal Household Furniture Manufacturing |  | 500
337125 | Household Furniture (except Wood and Metal) Manufacturing |  | 500
337127 | Institutional Furniture Manufacturing |  | 500
337129 | Wood Television, Radio, and Sewing Machine Cabinet Manufacturing |  | 500
337211 | Wood Office Furniture Manufacturing |  | 500
337212 | Custom Architectural Woodwork and Millwork Manufacturing |  | 500
337214 | Office Furniture (Except Wood) Manufacturing |  | 500
337215 | Showcase, Partition, Shelving, and Locker Manufacturing |  | 500
337910 | Mattress Manufacturing |  | 500
337920 | Blind and Shade Manufacturing |  | 500
Subsector 339—Miscellaneous Manufacturing
339111 | Laboratory Apparatus and Furniture Manufacturing |  | 500
339112 | Surgical and Medical Instrument Manufacturing |  | 500
339113 | Surgical Appliance and Supplies Manufacturing |  | 500
339114 | Dental Equipment and Supplies Manufacturing |  | 500
339115 | Ophthalmic Goods Manufacturing |  | 500
339116 | Dental Laboratories |  | 500
339911 | Jewelry (except Costume) Manufacturing |  | 500
339912 | Silverware and Hollowware Manufacturing |  | 500
339913 | Jewelers' Material and Lapidary Work Manufacturing |  | 500
339914 | Costume Jewelry and Novelty Manufacturing |  | 500
339920 | Sporting and Athletic Goods Manufacturing |  | 500
339931 | Doll and Stuffed Toy Manufacturing |  | 500
339932 | Game, Toy, and Children's Vehicle Manufacturing |  | 500
339941 | Pen and Mechanical Pencil Manufacturing |  | 500
339942 | Lead Pencil and Art Good Manufacturing |  | 500
339943 | Marking Device Manufacturing |  | 500
339944 | Carbon Paper and Inked Ribbon Manufacturing |  | 500
339950 | Sign Manufacturing |  | 500
339991 | Gasket, Packing, and Sealing Device Manufacturing |  | 500
339992 | Musical Instrument Manufacturing |  | 500
339993 | Fastener, Button, Needle and Pin Manufacturing |  | 500
339994 | Broom, Brush and Mop Manufacturing |  | 500
339995 | Burial Casket Manufacturing |  | 500
339999 | All Other Miscellaneous Manufacturing |  | 500
Sector 42—Wholesale Trade
(Not applicable to Government procurement of supplies. The nonmanufacturer size standard of 500 employees shall be used for purposes of Government procurement of supplies.)
Subsector 423—Merchant Wholesalers, Durable Goods
423110 | Automobile and Other Motor Vehicle Merchant Wholesalers |  | 100
423120 | Motor Vehicle Supplies and New Parts Merchant Wholesalers |  | 100
423130 | Tire and Tube Merchant Wholesalers |  | 100
423140 | Motor Vehicle Parts (Used) Merchant Wholesalers |  | 100
423210 | Furniture Merchant Wholesalers |  | 100
423220 | Home Furnishing Merchant Wholesalers |  | 100
423310 | Lumber, Plywood, Millwork, and Wood Panel Merchant Wholesalers |  | 100
423320 | Brick, Stone, and Related Construction Material Merchant Wholesalers |  | 100
423330 | Roofing, Siding, and Insulation Material Merchant Wholesalers |  | 100
423390 | Other Construction Material Merchant Wholesalers |  | 100
423410 | Photographic Equipment and Supplies Merchant Wholesalers |  | 100
423420 | Office Equipment Merchant Wholesalers |  | 100
423430 | Computer and Computer Peripheral Equipment and Software Merchant Wholesalers |  | 100
423440 | Other Commercial Equipment Merchant Wholesalers |  | 100
423450 | Medical, Dental, and Hospital Equipment and Supplies Merchant Wholesalers Wholesalers |  | 100
423460 | Ophthalmic Goods Merchant Wholesalers |  | 100
423490 | Other Professional Equipment and Supplies Merchant Wholesalers |  | 100
423510 | Metal Service Centers and Other Metal Merchant Wholesalers |  | 100
423520 | Coal and Other Mineral and Ore Merchant Wholesalers |  | 100
423610 | Electrical Apparatus and Equipment, Wiring Supplies, and Related Equipment Merchant Wholesalers |  | 100
423620 | Electrical and Electronic Appliance, Television, and Radio Set Merchant Wholesalers |  | 100
423690 | Other Electronic Parts and Equipment Merchant Wholesalers |  | 100
423710 | Hardware Merchant Wholesalers |  | 100
423720 | Plumbing and Heating Equipment and Supplies (Hydronics) Merchant Wholesalers |  | 100
423730 | Warm Air Heating and Air-Conditioning Equipment and Supplies Merchant Wholesalers |  | 100
423740 | Refrigeration Equipment and Supplies Merchant Wholesalers |  | 100
423810 | Construction and Mining (except Oil Well) Machinery and Equipment Merchant Wholesalers |  | 100
423820 | Farm and Garden Machinery and Equipment Merchant Wholesalers |  | 100
423830 | Industrial Machinery and Equipment Merchant Wholesalers |  | 100
423840 | Industrial Supplies Merchant Wholesalers |  | 100
423850 | Service Establishment Equipment and Supplies Merchant Wholesalers |  | 100
423860 | Transportation Equipment and Supplies (except Motor Vehicle) Merchant Wholesalers |  | 100
423910 | Sporting and Recreational Goods and Supplies Merchant Wholesalers |  | 100
423920 | Toy and Hobby Goods and Supplies Merchant Wholesalers |  | 100
423930 | Recyclable Material Merchant Wholesalers |  | 100
423940 | Jewelry, Watch, Precious Stone, and Precious Metal Merchant Wholesalers |  | 100
423990 | Other Miscellaneous Durable Goods Merchant Wholesalers |  | 100
Subsector 424—Merchant Wholesalers, Nondurable Goods
424110 | Printing and Writing Paper Merchant Wholesalers |  | 100
424120 | Stationary and Office Supplies Merchant Wholesalers |  | 100
424130 | Industrial and Personal Service Paper Merchant Wholesalers |  | 100
424210 | Drugs and Druggists' Sundries Merchant Wholesalers |  | 100
424310 | Piece Goods, Notions, and Other Dry Goods Merchant Wholesalers |  | 100
424320 | Men's and Boys' Clothing and Furnishings Merchant Wholesalers |  | 100
424330 | Women's, Children's, and Infants' Clothing and Accessories Merchant Wholesalers |  | 100
424340 | Footwear Merchant Wholesalers |  | 100
424410 | General Line Grocery Merchant Wholesalers |  | 100
424420 | Packaged Frozen Food Merchant Wholesalers |  | 100
424430 | Dairy Product (except Dried or Canned) Merchant Wholesalers |  | 100
424440 | Poultry and Poultry Product Merchant Wholesalers |  | 100
424450 | Confectionery Merchant Wholesalers |  | 100
424460 | Fish and Seafood Merchant Wholesalers |  | 100
424470 | Meat and Meat Product Merchant Wholesalers |  | 100
424480 | Fresh Fruit and Vegetable Merchant Wholesalers |  | 100
424490 | Other Grocery and Related Products Merchant Wholesalers |  | 100
424510 | Grain and Field Bean Merchant Wholesalers |  | 100
424520 | Livestock Merchant Wholesalers |  | 100
424590 | Other Farm Product Raw Material Merchant Wholesalers |  | 100
424610 | Plastics Materials and Basic Forms and Shapes Merchant Wholesalers |  | 100
424690 | Other Chemical and Allied Products Merchant Wholesalers |  | 100
424710 | Petroleum Bulk Stations and Terminals |  | 100
424720 | Petroleum and Petroleum Products Merchant Wholesalers (except Bulk Stations and Terminals) |  | 100
424810 | Beer and Ale Merchant Wholesalers |  | 100
424820 | Wine and Distilled Alcoholic Beverage Merchant Wholesalers |  | 100
424910 | Farm Supplies Merchant Wholesalers |  | 100
424920 | Book, Periodical, and Newspaper Merchant Wholesalers |  | 100
424930 | Flower, Nursery Stock, and Florists' Supplies Merchant Wholesalers |  | 100
424940 | Tobacco and Tobacco Product Merchant Wholesalers |  | 100
424950 | Paint, Varnish, and Supplies Merchant Wholesalers |  | 100
424990 | Other Miscellaneous Nondurable Goods Merchant Wholesalers |  | 100
Subsector 425—Wholesale Electronic Markets and Agents and Brokers
425110 | Business to Business Electronic Markets |  | 100
425120 | Wholesale Trade Agents and Brokers |  | 100
Sectors 44-45—Retail Trade
(Not applicable to Government procurement of supplies. The nonmanufacturer size standard of 500 employees shall be used for purposes of Government procurement of supplies.)
Subsector 441—Motor Vehicle and Parts Dealers
441110 | New Car Dealers | $24.5 |
441120 | Used Car Dealers | $19.5 |
441210 | Recreational Vehicle Dealers | $6.0 |
441221 | Motorcycle Dealers | $6.0 |
441222 | Boat Dealers | $6.0 |
441229 | All Other Motor Vehicle Dealers | $6.0 |
EXCEPT, | Aircraft Dealers, Retail | $8.5 |
441310 | Automotive Parts and Accessories Stores | $6.0 |
441320 | Tire Dealers | $6.0 |
Subsector 442—Furniture and Home Furnishings Stores
442110 | Furniture Stores | $6.0 |
442210 | Floor Covering Stores | $6.0 |
442291 | Window Treatment Stores | $6.0 |
442299 | All Other Home Furnishings Stores | $6.0 |
Subsector 443—Electronics and Appliance Stores
443111 | Household Appliance Stores | $7.5 |
443112 | Radio, Television and Other Electronics Stores | $7.5 |
443120 | Computer and Software Stores | $7.5 |
443130 | Camera and Photographic Supplies Stores | $6.0 |
Subsector 444—Building Material and Garden Equipment and Supplies Dealers
444110 | Home Centers | $6.0 |
444120 | Paint and Wallpaper Stores | $6.0 |
444130 | Hardware Stores | $6.0 |
444190 | Other Building Material Dealers | $6.0 |
444210 | Outdoor Power Equipment Stores | $6.0 |
444220 | Nursery and Garden Centers | $6.0 |
Subsector 445—Food and Beverage Stores
445110 | Supermarkets and Other Grocery (except Convenience) Stores | $23.0 |
445120 | Convenience Stores | $23.0 |
445210 | Meat Markets | $6.0 |
445220 | Fish and Seafood Markets | $6.0 |
445230 | Fruit and Vegetable Markets | $6.0 |
445291 | Baked Goods Stores | $6.0 |
445292 | Confectionery and Nut Stores | $6.0 |
445299 | All Other Specialty Food Stores | $6.0 |
445310 | Beer, Wine and Liquor Stores | $6.0 |
Subsector 446—Health and Personal Care Stores
446110 | Pharmacies and Drug Stores | $6.0 |
446120 | Cosmetics, Beauty Supplies and Perfume Stores | $6.0 |
446130 | Optical Goods Stores | $6.0 |
446191 | Food (Health) Supplement Stores | $6.0 |
446199 | All Other Health and Personal Care Stores | $6.0 |
Subsector 447—Gasoline Stations
447110 | Gasoline Stations with Convenience Stores | $23.0 |
447190 | Other Gasoline Stations | $7.5 |
Subsector 448—Clothing and Clothing Accessories Stores
448110 | Men's Clothing Stores | $7.5 |
448120 | Women's Clothing Stores | $7.5 |
448130 | Children's and Infants' Clothing Stores | $6.0 |
448140 | Family Clothing Stores | $7.5 |
448150 | Clothing Accessories Stores | $6.0 |
448190 | Other Clothing Stores | $6.0 |
448210 | Shoe Stores | $7.5 |
448310 | Jewelry Stores | $6.0 |
448320 | Luggage and Leather Goods Stores | $6.0 |
Subsector 451—Sporting Good, Hobby, Book and Music Stores
451110 | Sporting Goods Stores | $6.0 |
451120 | Hobby, Toy and Game Stores | $6.0 |
451130 | Sewing, Needlework and Piece Goods Stores | $6.0 |
451140 | Musical Instrument and Supplies Stores | $6.0 |
451211 | Book Stores | $6.0 |
451212 | News Dealers and Newsstands | $6.0 |
451220 | Prerecorded Tape, Compact Disc and Record Stores | $6.0 |
Subsector 452—General Merchandise Stores
452111 | Department Stores (except Discount Department Stores) | $23.0 |
452112 | Discount Department Stores | $23.0 |
452910 | Warehouse Clubs and Superstores | $23.0 |
452990 | All Other General Merchandise Stores | $9.5 |
Subsector 453—Miscellaneous Store Retailers
453110 | Florists | $6.0 |
453210 | Office Supplies and Stationery Stores | $6.0 |
453220 | Gift, Novelty and Souvenir Stores | $6.0 |
453310 | Used Merchandise Stores | $6.0 |
453910 | Pet and Pet Supplies Stores | $6.0 |
453920 | Art Dealers | $6.0 |
453930 | Manufactured (Mobile) Home Dealers | $11.0 |
453991 | Tobacco Stores | $6.0 |
453998 | All Other Miscellaneous Store Retailers (except Tobacco Stores) | $6.0 |
454111 | Electronic Shopping | $21.0 |
454112 | Electronic Auctions | $21.0 |
454113 | Mail-Order Houses | $21.0 |
454210 | Vending Machine Operators | $6.0 |
454311 | Heating Oil Dealers | $10.5 |
454312 | Liquefied Petroleum Gas (Bottled Gas) Dealers | $6.0 |
454319 | Other Fuel Dealers | $6.0 |
454390 | Other Direct Selling Establishments | $6.0 |
Sectors 48-49—Transportation
Subsector 481—Air Transportation
481111 | Scheduled Passenger Air Transportation |  | 1,500
481112 | Scheduled Freight Air Transportation |  | 1,500
481211 | Nonscheduled Chartered Passenger Air Transportation |  | 1,500
EXCEPT, | Offshore Marine Air Transportation Services | $23.5 |
481212 | Nonscheduled Chartered Freight Air Transportation |  | 1,500
EXCEPT, | Offshore Marine Air Transportation Services | $23.5 |
481219 | Other Nonscheduled Air Transportation | $6.0 |
Subsector 482—Rail Transportation
482111 | Line-Haul Railroads |
482112 | Short Line Railroads |  | 500
Subsector 483—Water Transportation ¹⁵
483111 | Deep Sea Freight Transportation |  | 500
483112 | Deep Sea Passenger Transportation |  | 500
483113 | Coastal and Great Lakes Freight Transportation |  | 500
483114 | Coastal and Great Lakes Passenger Transportation |  | 500
483211 | Inland Water Freight Transportation |  | 500
483212 | Inland Water Passenger Transportation |  | 500
Subsector 484—Truck Transportation
484110 | General Freight Trucking, Local | $21.5 |
484121 | General Freight Trucking, Long-Distance, Truckload | $21.5 |
484122 | General Freight Trucking, Long-Distance, Less Than Truckload | $21.5 |
484210 | Used Household and Office Goods Moving | $21.5 |
484220 | Specialized Freight (except Used Goods) Trucking, Local | $21.5 |
484230 | Specialized Freight (except Used Goods) Trucking, Long-Distance | $21.5 |
Subsector 485—Transit and Ground Passenger Transportation
485111 | Mixed Mode Transit Systems | $6.0 |
485112 | Commuter Rail Systems | $6.0 |
485113 | Bus and Motor Vehicle Transit Systems | $6.0 |
485119 | Other Urban Transit Systems | $6.0 |
485210 | Interurban and Rural Bus Transportation | $6.0 |
485310 | Taxi Service | $6.0 |
485320 | Limousine Service | $6.0 |
485410 | School and Employee Bus Transportation | $6.0 |
485510 | Charter Bus Industry | $6.0 |
485991 | Special Needs Transportation | $6.0 |
485999 | All Other Transit and Ground Passenger Transportation | $6.0 |
Subsector 486—Pipeline Transportation
486110 | Pipeline Transportation of Crude Oil |  | 1,500
486210 | Pipeline Transportation of Natural Gas | $6.0 |
486910 | Pipeline Transportation of Refined Petroleum Products |  | 1,500
486990 | All Other Pipeline Transportation | $29.0 |
Subsector 487—Scenic and Sightseeing Transportation
487110 | Scenic and Sightseeing Transportation, Land | $6.0 |
487210 | Scenic and Sightseeing Transportation, Water | $6.0 |
487990 | Scenic and Sightseeing Transportation, Other | $6.0 |
Subsector 488—Support Activities for Transportation
488111 | Air Traffic Control | $6.0 |
488119 | Other Airport Operations | $6.0 |
488190 | Other Support Activities for Air Transportation | $6.0 |
488210 | Support Activities for Rail Transportation | $6.0 |
488310 | Port and Harbor Operations | $21.5 |
488320 | Marine Cargo Handling | $21.5 |
488330 | Navigational Services to Shipping | $6.0 |
488390 | Other Support Activities for Water Transportation | $6.0 |
488410 | Motor Vehicle Towing | $6.0 |
488490 | Other Support Activities for Road Transportation | $6.0 |
488510 | Freight Transportation Arrangement ¹⁰ | $6.0 ¹⁰ |
EXCEPT, | Non-Vessel Owning Common Carriers Household Goods Forwarders | $21.5 |
488991 | Packing and Crating | $21.5 |
488999 | All Other Support Activities for Transportation | $6.0 |
Subsector 491—Postal Service
491110 | Postal Service | $6.0 |
Subsector 492—Couriers and Messengers
492110 | Couriers |  |
492210 | Local Messengers and Local Delivery | $21.5 |
Subsector 493—Warehousing and Storage
493110 | General Warehousing and Storage | $21.5 |
493120 | Refrigerated Warehousing and Storage | $21.5 |
493130 | Farm Product Warehousing and Storage | $21.5 |
493190 | Other Warehousing and Storage | $21.5 |
Sector 51—Information
Subsector 511—Publishing Industries (except Internet)
511110 | Newspaper Publishers |  | 500
511120 | Periodical Publishers |  | 500
511130 | Book Publishers |  | 500
511140 | Directory and Mailing List Publishers |  | 500
511191 | Greeting Card Publishers |  | 500
511199 | All Other Publishers |  | 500
511210 | Software Publishers | $21.0 |
Subsector 512—Motion Picture and Sound Recording Industries
512110 | Motion Picture and Video Production | $25.0 |
512120 | Motion Picture and Video Distribution | $25.0 |
512131 | Motion Picture Theaters (except Drive-Ins) | $6.0 |
512132 | Drive-In Motion Picture Theaters | $6.0 |
512191 | Teleproduction and Other Postproduction Services | $25.0 |
512199 | Other Motion Picture and Video Industries | $6.0 |
512210 | Record Production | $6.0 |
512220 | Integrated Record Production/Distribution |  | 750
512230 | Music Publishers |  | 500
512240 | Sound Recording Studios | $6.0 |
512290 | Other Sound Recording Industries | $6.0 |
Subsector 515—Broadcasting (except Internet)
515111 | Radio Networks | $6.0 |
515112 | Radio Stations | $6.0 |
515120 | Television Broadcasting | $12.0 |
515210 | Cable and Other Subscription Programming | $12.5 |
Subsector 516—Internet Publishing and Broadcasting
516110 | Internet Publishing and Broadcasting |  | 500
Subsector 517—Telecommunications
517110 | Wired Telecommunications Carriers |  | 1,500
517211 | Paging |  | 1,500
517212 | Cellular and Other Wireless Telecommunications |  | 1,500
517310 | Telecommunications Resellers |  | 1,500
517410 | Satellite Telecommunications | $12.5 |
517510 | Cable and Other Program Distribution | $12.5 |
517910 | Other Telecommunications | $12.5 |
Subsector 518—Internet Service Providers, Web Search Portals, and Data Processing Services
518111 | Internet Service Providers | $21.0 |
518112 | Web Search Portals | $6.0 |
518210 | Data Processing, Hosting, and Related Services | $21.0 |
Subsector 519—Other Information Services
519110 | News Syndicates | $6.0 |
519120 | Libraries and Archives | $6.0 |
519190 | All Other Information Services | $6.0 |
Sector 52—Finance and Insurance
Subsector 522—Credit Intermediation and Related Activities
522110 | Commercial Banking ⁸ | $150 million in assets ⁸
522120 | Savings Institutions ⁸ | $150 million in assets ⁸ |
522130 | Credit Unions ⁸ | $150 million in assets ⁸ |
522190 | Other Depository Credit Intermediation ⁸ | $150 million in assets ⁸ |
522210 | Credit Card Issuing ⁸ | $150 million in assets ⁸ |
522220 | Sales Financing | $6.0 |
522291 | Consumer Lending | $6.0 |
522292 | Real Estate Credit | $6.0 |
522293 | International Trade Financing ⁸ | $150 million in assets ⁸ |
522294 | Secondary Market Financing | $6.0 |
522298 | All Other Non-Depository Credit Intermediation | $6.0 |
522310 | Mortgage and Nonmortgage Loan Brokers | $6.0 |
522320 | Financial Transactions Processing, Reserve, and Clearing House Activities | $6.0 |
522390 | Other Activities Related to Credit Intermediation | $6.0 |
Subsector 523—Financial Investments and Related Activities
523110 | Investment Banking and Securities Dealing | $6.0 |
523120 | Securities Brokerage | $6.0 |
523130 | Commodity Contracts Dealing | $6.0 |
523140 | Commodity Contracts Brokerage | $6.0 |
523210 | Securities and Commodity Exchanges | $6.0 |
523910 | Miscellaneous Intermediation | $6.0 |
523920 | Portfolio Management | $6.0 |
523930 | Investment Advice | $6.0 |
523991 | Trust, Fiduciary and Custody Activities | $6.0 |
523999 | Miscellaneous Financial Investment Activities | $6.0 |
Subsector 524—Insurance Carriers and Related Activities
524113 | Direct Life Insurance Carriers | $6.0 |
524114 | Direct Health and Medical Insurance Carriers | $6.0 |
524126 | Direct Property and Casualty Insurance Carriers |  | 1,500
524127 | Direct Title Insurance Carriers | $6.0 |
524128 | Other Direct Insurance (except Life, Health and Medical) Carriers | $6.0 |
524130 | Reinsurance Carriers | $6.0 |
524210 | Insurance Agencies and Brokerages | $6.0 |
524291 | Claims Adjusting | $6.0 |
524292 | Third Party Administration of Insurance and Pension Funds | $6.0 |
524298 | All Other Insurance Related Activities | $6.0 |
Subsector 525—Funds, Trusts and Other Financial Vehicles
525110 | Pension Funds | $6.0 |
525120 | Health and Welfare Funds | $6.0 |
525190 | Other Insurance Funds | $6.0 |
525910 | Open-End Investment Funds | $6.0 |
525920 | Trusts, Estates, and Agency Accounts | $6.0 |
525930 | Real Estate Investment Trusts | $6.0 |
525990 | Other Financial Vehicles | $6.0 |
Sector 53—Real Estate and Rental and Leasing
Subsector 531—Real Estate
531110 | Lessors of Residential Buildings and Dwellings | $6.0 |
531120 | Lessors of Nonresidential Buildings (except Miniwarehouses) | $6.0 |
531130 | Lessors of Miniwarehouses and Self Storage Units | $21.5 |
531190 | Lessors of Other Real Estate Property | $6.0
EXCEPT, | Leasing of Building Space to Federal Government by Owners | ⁹ $17.5 |
531210 | Offices of Real Estate Agents and Brokers ⁹ | ¹⁰ $1.5 |
531311 | Residential Property Managers ¹⁰ | $1.5 |
531312 | Nonresidential Property Managers | $1.5 |
531320 | Offices of Real Estate Appraisers | $1.5 |
531390 | Other Activities Related to Real Estate | $1.5 |
Subsector 532—Rental and Leasing Services
532111 | Passenger Car Rental | $21.5 |
532112 | Passenger Car Leasing | $21.5 |
532120 | Truck, Utility Trailer, and RV (Recreational Vehicle) Rental and Leasing | $21.5 |
532210 | Consumer Electronics and Appliances Rental | $6.0 |
532220 | Formal Wear and Costume Rental | $6.0 |
532230 | Video Tape and Disc Rental | $6.0 |
532291 | Home Health Equipment Rental | $6.0 |
532292 | Recreational Goods Rental | $6.0 |
532299 | All Other Consumer Goods Rental | $6.0 |
532310 | General Rental Centers | $6.0 |
532411 | Commercial Air, Rail, and Water Transportation Equipment Rental and Leasing | $6.0 |
532412 | Construction, Mining and Forestry Machinery and Equipment Rental and Leasing | $6.0 |
532420 | Office Machinery and Equipment Rental and Leasing | $21.0 |
532490 | Other Commercial and Industrial Machinery and Equipment Rental and Leasing | $6.0
Subsector 533—Lessors of Nonfinancial Intangible Assets (except Copyrighted Works)
533110 | Lessors of Nonfinancial Intangible Assets (except Copyrighted Works) | $6.0 |
Sector 54—Professional, Scientific and Technical Services
Subsector 541—Professional, Scientific and Technical Services
541110 | Offices of Lawyers | $6.0 |
541191 | Title Abstract and Settlement Offices | $6.0 |
541199 | All Other Legal Services | $6.0 |
541211 | Offices of Certified Public Accountants | $7.0 |
541213 | Tax Preparation Services | $6.0 |
541214 | Payroll Services | $7.0 |
541219 | Other Accounting Services | $7.0 |
541310 | Architectural Services | $4.0 |
541320 | Landscape Architectural Services | $6.0 |
541330 | Engineering Services | $4.0 |
EXCEPT, | Military and Aerospace Equipment and Military Weapons. | $23.0 |
EXCEPT, | Contracts and Subcontracts for Engineering Services Awarded Under the National Energy Policy Act of 1992. | $23.0
EXCEPT, | Marine Engineering and Naval Architecture. | $15.5 |
541340 | Drafting Services | $6.0 |
EXCEPT, | Map Drafting | $4.0 |
541350 | Building Inspection Services | $6.0 |
541360 | Geophysical Surveying and Mapping Services | $4.0 |
541370 | Surveying and Mapping (except Geophysical) Services | $4.0 |
541380 | Testing Laboratories | $6.0 |
541410 | Interior Design Services | $6.0 |
541420 | Industrial Design Services | $6.0 |
541430 | Graphic Design Services | $6.0 |
541490 | Other Specialized Design Services | $6.0 |
541511 | Custom Computer Programming Services | $21.0 |
541512 | Computer Systems Design Services | $21.0 |
541513 | Computer Facilities Management Services | $21.0 |
541519 | Other Computer Related Services | $21.0 |
541611 | Administrative Management and General Management Consulting Services | $6.0 |
541612 | Human Resources and Executive Search Consulting Services | $6.0 |
541613 | Marketing Consulting Services | $6.0 |
541614 | Process, Physical Distribution and Logistics Consulting Services | $6.0 |
541618 | Other Management Consulting Services | $6.0 |
541620 | Environmental Consulting Services | $6.0 |
541690 | Other Scientific and Technical Consulting Services | $6.0 |
541710 | Research and Development in the Physical, Engineering, and Life Sciences ¹¹ |  | ¹¹ 500
EXCEPT, | Aircraft | 1,500 |
EXCEPT, | Aircraft Parts, and Auxiliary Equipment, and Aircraft Engine Parts | 1,000 |
EXCEPT, | Space Vehicles and Guided Missiles, their Propulsion Units, their Propulsion Units Parts, and their Auxiliary Equipment and Parts | 1,000 |
541720 | Research and Development in the Social Sciences and Humanities | $6.0 |
541810 | Advertising Agencies ¹⁰ | ¹⁰$6.0 |
541820 | Public Relations Agencies | $6.0 |
541830 | Media Buying Agencies | $6.0 |
541840 | Media Representatives | $6.0 |
541850 | Display Advertising | $6.0 |
541860 | Direct Mail Advertising | $6.0 |
541870 | Advertising Material Distribution Services | $6.0 |
541890 | Other Services Related to Advertising | $6.0 |
541910 | Marketing Research and Public Opinion Polling | $6.0 |
541921 | Photography Studios, Portrait | $6.0 |
541922 | Commercial Photography | $6.0 |
541930 | Translation and Interpretation Services | $6.0 |
541940 | Veterinary Services | $6.0 |
541990 | All Other Professional, Scientific and Technical Services | $6.0
Sector 55—Management of Companies and Enterprises
Subsector 551—Management of Companies and Enterprises
551111 | Offices of Bank Holding Companies | $6.0 |
551112 | Offices of Other Holding Companies | $6.0 |
Sector 56—Administrative and Support, Waste Management and Remediation Services
Subsector 561—Administrative and Support Services
561110 | Office Administrative Services | $6.0 |
561210 | Facilities Support Services ¹² | ¹² $6.0 |
EXCEPT, | Base Maintenance ¹³ | ¹³ $23.0 |
561310 | Employment Placement Agencies | $6.0 |
561320 | Temporary Help Services | $11.5 |
561330 | Employee Leasing Services | $11.5 |
561410 | Document Preparation Services | $6.0 |
561421 | Telephone Answering Services | $6.0 |
561422 | Telemarketing Bureaus | $6.0 |
561431 | Private Mail Centers | $6.0 |
561439 | Other Business Service Centers (including Copy Shops) | $6.0 |
561440 | Collection Agencies | $6.0 |
561450 | Credit Bureaus | $6.0 |
561491 | Repossession Services | $6.0 |
561492 | Court Reporting and Stenotype Services | $6.0 |
561499 | All Other Business Support Services | $6.0 |
561510 | Travel Agencies ¹⁰ | ¹⁰ $3.0 |
561520 | Tour Operators | $6.0 |
561591 | Convention and Visitors Bureaus | $6.0 |
561599 | All Other Travel Arrangement and Reservation Services | $6.0 |
561611 | Investigation Services | $10.5 |
561612 | Security Guards and Patrol Services | $10.5 |
561613 | Armored Car Services | $10.5 |
561621 | Security Systems Services (except Locksmiths) | $10.5 |
561622 | Locksmiths | $6.0 |
561710 | Exterminating and Pest Control Services | $6.0 |
561720 | Janitorial Services | $14.0 |
561730 | Landscaping Services | $6.0 |
561740 | Carpet and Upholstery Cleaning Services | $4.0 |
561790 | Other Services to Buildings and Dwellings | $6.0 |
561910 | Packaging and Labeling Services | $6.0 |
561920 | Convention and Trade Show Organizers ¹⁰ | ¹⁰ $6.0 |
561990 | All Other Support Services | $6.0 |
Subsector 562—Waste Management and Remediation Services
562111 | Solid Waste Collection | $10.5 |
562112 | Hazardous Waste Collection | $10.5 |
562119 | Other Waste Collection | $10.5 |
562211 | Hazardous Waste Treatment and Disposal | $10.5 |
562212 | Solid Waste Landfill | $10.5 |
562213 | Solid Waste Combustors and Incinerators | $10.5 |
562219 | Other Nonhazardous Waste Treatment and Disposal | $10.5
562910 | Remediation Services | $12.0 |
EXCEPT, | Environmental Remediation Services ¹⁴ |  | ¹⁴ 500
562920 | Materials Recovery Facilities | $10.5 |
562991 | Septic Tank and Related Services | $6.0 |
562998 | All Other Miscellaneous Waste Management Services | $6.0 |
Sector 61—Educational Services
Subsector 611—Educational Services
611110 | Elementary and Secondary Schools | $6.0 |
611210 | Junior Colleges | $6.0 |
611310 | Colleges, Universities and Professional Schools | $6.0 |
611410 | Business and Secretarial Schools | $6.0 |
611420 | Computer Training | $6.0 |
611430 | Professional and Management Development Training | $6.0 |
611511 | Cosmetology and Barber Schools | $6.0 |
611512 | Flight Training | $21.5 |
611513 | Apprenticeship Training | $6.0 |
611519 | Other Technical and Trade Schools | $6.0 |
611610 | Fine Arts Schools | $6.0 |
611620 | Sports and Recreation Instruction | $6.0 |
611630 | Language Schools | $6.0 |
611691 | Exam Preparation and Tutoring | $6.0 |
611692 | Automobile Driving Schools | $6.0 |
611699 | All Other Miscellaneous Schools and Instruction | $6.0 |
611710 | Educational Support Services | $6.0 |
Sector 62—Health Care and Social Assistance
Subsector 621—Ambulatory Health Care Services
621111 | Offices of Physicians (except Mental Health Specialists) | $8.5 |
621112 | Offices of Physicians, Mental Health Specialists | $8.5 |
621210 | Offices of Dentists | $6.0 |
621310 | Offices of Chiropractors | $6.0 |
621320 | Offices of Optometrists | $6.0 |
621330 | Offices of Mental Health Practitioners (except Physicians) | $6.0 |
621340 | Offices of Physical, Occupational and Speech Therapists and Audiologists | $6.0
621391 | Offices of Podiatrists | $6.0 |
621399 | Offices of All Other Miscellaneous Health Practitioners | $6.0 |
621410 | Family Planning Centers | $8.5 |
621420 | Outpatient Mental Health and Substance Abuse Centers | $8.5 |
621491 | HMO Medical Centers | $8.5 |
621492 | Kidney Dialysis Centers | $29.0 |
621493 | Freestanding Ambulatory Surgical and Emergency Centers | $8.5 |
621498 | All Other Outpatient Care Centers | $8.5 |
621511 | Medical Laboratories | $11.5 |
621512 | Diagnostic Imaging Centers | $11.5 |
621610 | Home Health Care Services | $11.5 |
621910 | Ambulance Services | $6.0 |
621991 | Blood and Organ Banks | $8.5 |
621999 | All Other Miscellaneous Ambulatory Health Care Services | $8.5 |
Subsector 622—Hospitals
622110 | General Medical and Surgical Hospitals | $29.0 |
622210 | Psychiatric and Substance Abuse Hospitals | $29.0 |
622310 | Specialty (except Psychiatric and Substance Abuse) Hospitals | $29.0 |
Subsector 623—Nursing and Residential Care Facilities
623110 | Nursing Care Facilities | $11.5 |
623210 | Residential Mental Retardation Facilities | $8.5 |
623220 | Residential Mental Health and Substance Abuse Facilities | $6.0 |
623311 | Continuing Care Retirement Communities | $11.5 |
623312 | Homes for the Elderly | $6.0 |
623990 | Other Residential Care Facilities | $6.0 |
Subsector 624—Social Assistance
624110 | Child and Youth Services | $6.0 |
624120 | Services for the Elderly and Persons with Disabilities | $6.0 |
624190 | Other Individual and Family Services | $6.0 |
624210 | Community Food Services | $6.0 |
624221 | Temporary Shelters | $6.0 |
624229 | Other Community Housing Services | $6.0 |
624230 | Emergency and Other Relief Services | $6.0 |
624310 | Vocational Rehabilitation Services | $6.0 |
624410 | Child Day Care Services | $6.0 |
Sector 71—Arts, Entertainment and Recreation
Subsector 711—Performing Arts, Spectator Sports and Related Industries
711110 | Theater Companies and Dinner Theaters | $6.0 |
711120 | Dance Companies | $6.0 |
711130 | Musical Groups and Artists | $6.0 |
711190 | Other Performing Arts Companies | $6.0 |
711211 | Sports Teams and Clubs | $6.0 |
711212 | Race Tracks | $6.0 |
711219 | Other Spectator Sports | $6.0 |
711310 | Promoters of Performing Arts, Sports and Similar Events with Facilities | $6.0 |
711320 | Promoters of Performing Arts, Sports and Similar Events without Facilities | $6.0 |
711410 | Agents and Managers for Artists, Athletes, Entertainers and Other Public Figures | $6.0 |
711510 | Independent Artists, Writers, and Performers | $6.0 |
Subsector 712—Museums, Historical Sites and Similar Institutions
712110 | Museums | $6.0 |
712120 | Historical Sites | $6.0 |
712130 | Zoos and Botanical Gardens | $6.0 |
712190 | Nature Parks and Other Similar Institutions | $6.0 |
Subsector 713—Amusement, Gambling and Recreation Industries
713110 | Amusement and Theme Parks | $6.0 |
713120 | Amusement Arcades | $6.0 |
713210 | Casinos (except Casino Hotels) | $6.0 |
713290 | Other Gambling Industries | $6.0 |
713910 | Golf Courses and Country Clubs | $6.0 |
713920 | Skiing Facilities | $6.0 |
713930 | Marinas | $6.0 |
713940 | Fitness and Recreational Sports Centers | $6.0 |
713950 | Bowling Centers | $6.0 |
713990 | All Other Amusement and Recreation Industries | $6.0 |
Sector 72—Accommodation and Food Services
Subsector 721—Accommodation
721110 | Hotels (except Casino Hotels) and Motels | $6.0 |
721120 | Casino Hotels | $6.0 |
721191 | Bed and Breakfast Inns | $6.0 |
721199 | All Other Traveler Accommodation | $6.0 |
721211 | RV (Recreational Vehicle) Parks and Campgrounds | $6.0 |
721214 | Recreational and Vacation Camps (except Campgrounds) | $6.0 |
721310 | Rooming and Boarding Houses | $6.0 |
Subsector 722—Food Services and Drinking Places
722110 | Full-Service Restaurants | $6.0 |
722211 | Limited-Service Restaurants | $6.0 |
722212 | Cafeterias | $6.0 |
722213 | Snack and Nonalcoholic Beverage Bars | $6.0 |
722310 | Food Service Contractors | $17.5 |
722320 | Caterers | $6.0 |
722330 | Mobile Food Services | $6.0 |
722410 | Drinking Places (Alcoholic Beverages) | $6.0 |
Sector 81—Other Services
Subsector 811—Repair and Maintenance
811111 | General Automotive Repair | $6.0 |
811112 | Automotive Exhaust System Repair | $6.0 |
811113 | Automotive Transmission Repair | $6.0 |
811118 | Other Automotive Mechanical and Electrical Repair and Maintenance | $6.0 |
811121 | Automotive Body, Paint and Interior Repair and Maintenance | $6.0 |
811122 | Automotive Glass Replacement Shops | $6.0 |
811191 | Automotive Oil Change and Lubrication Shops | $6.0 |
811192 | Car Washes | $6.0 |
811198 | All Other Automotive Repair and Maintenance | $6.0 |
811211 | Consumer Electronics Repair and Maintenance | $6.0 |
811212 | Computer and Office Machine Repair and Maintenance | $21.0 |
811213 | Communication Equipment Repair and Maintenance | $6.0 |
811219 | Other Electronic and Precision Equipment Repair and Maintenance | $6.0 |
811310 | Commercial and Industrial Machinery and Equipment (except Automotive and Electronic) Repair and Maintenance | $6.0 |
811411 | Home and Garden Equipment Repair and Maintenance | $6.0 |
811412 | Appliance Repair and Maintenance | $6.0 |
811420 | Reupholstery and Furniture Repair | $6.0 |
811430 | Footwear and Leather Goods Repair | $6.0 |
811490 | Other Personal and Household Goods Repair and Maintenance | $6.0 |
Subsector 812—Personal and Laundry Services
812111 | Barber Shops | $6.0 |
812112 | Beauty Salons | $6.0 |
812113 | Nail Salons | $6.0 |
812191 | Diet and Weight Reducing Centers | $6.0 |
812199 | Other Personal Care Services | $6.0 |
812210 | Funeral Homes and Funeral Services | $6.0 |
812220 | Cemeteries and Crematories | $6.0 |
812310 | Coin-Operated Laundries and Drycleaners | $6.0 |
812320 | Drycleaning and Laundry Services (except Coin- Operated) | $4.0 |
812331 | Linen Supply | $12.0 |
812332 | Industrial Launderers | $12.0 |
812910 | Pet Care (except Veterinary) Services | $6.0 |
812921 | Photo Finishing Laboratories (except One-Hour) | $6.0 |
812922 | One-Hour Photo Finishing | $6.0 |
812930 | Parking Lots and Garages | $6.0 |
812990 | All Other Personal Services | $6.0 |
Subsector 813—Religious, Grantmaking, Civic, Professional and Similar Organizations
813110 | Religious Organizations | $6.0 |
813211 | Grantmaking Foundations | $6.0 |
813212 | Voluntary Health Organizations | $6.0 |
813219 | Other Grantmaking and Giving Services | $6.0 |
813311 | Human Rights Organizations | $6.0 |
813312 | Environment, Conservation and Wildlife Organizations | $6.0 |
813319 | Other Social Advocacy Organizations | $6.0 |
813410 | Civic and Social Organizations | $6.0 |
813910 | Business Associations | $6.0 |
813920 | Professional Organizations | $6.0 |
813930 | Labor Unions and Similar Labor Organizations | $6.0 |
813940 | Political Organizations | $6.0 |
813990 | Other Similar Organizations (except Business, Professional, Labor, and Political Organizations) | $6.0 |

Footnotes

1. NAICS codes 221111, 221112, 221113, 221119, 221121, and 221122—A firm is small if, including its affiliates, it is primarily engaged in the generation, transmission, and/or distribution of electric energy for sale and its total electric output for the preceding fiscal year did not exceed 4 million megawatt hours.

2. NAICS code 237990—Dredging: To be considered small for purposes of Government procurement, a firm must perform at least 40 percent of the volume dredged with its own equipment or equipment owned by another small dredging concern.

3. NAICS code 311421—For purposes of Government procurement for food canning and preserving, the standard of 500 employees excludes agricultural labor as defined in 3306(k) of the Internal Revenue Code, 26 U.S.C. 3306(k).

4. NAICS code 324110—For purposes of Government procurement, the firm may not have more than 1,500 employees nor more than 75,000 barrels per day capacity of petroleum-based inputs, including crude oil or bona fide feedstocks. Capacity includes owned or leased facilities as well as facilities under a processing agreement or an arrangement such as an exchange agreement or a throughput. The total product to be delivered under the contract must be at least 90 percent refined by the successful bidder from either crude oil or bona fide feedstocks.

5. NAICS code 326211—For Government procurement, a firm is small for bidding on a contract for pneumatic tires within Census Classification codes 30111 and 30112, provided that:

(a) The value of tires within Census Classification codes 30111 and 30112 which it manufactured in the United States during the previous calendar year is more than 50 percent of the value of its total worldwide manufacture,

(b) The value of pneumatic tires within Census Classification codes 30111 and 30112 comprising its total worldwide manufacture during the preceding calendar year was less than 5 percent of the value of all such tires manufactured in the United States during that period, and

(c) The value of the principal product which it manufactured or otherwise produced, or sold worldwide during the preceding calendar year is less than 10 percent of the total value of such products manufactured or otherwise produced or sold in the United States during that period.

6. NAICS Subsectors 333, 334, 335 and 336—For rebuilding machinery or equipment on a factory basis, or equivalent, use the NAICS code for a newly manufactured product. Concerns performing major rebuilding or overhaul activities do not necessarily have to meet the criteria for being a “manufacturer” although the activities may be classified under a manufacturing NAICS code. Ordinary repair services or preservation are not considered rebuilding.

7. NAICS code 336413—Contracts for the rebuilding or overhaul of aircraft ground support equipment on a contract basis are classified under NAICS code 336413.

8. NAICS Codes 522110, 522120, 522130, 522190, 522210 and 522293—A financial institution's assets are determined by averaging the assets reported on its four quarterly financial statements for the preceding year. “Assets” for the purposes of this size standard means the assets defined according to the Federal Financial Institutions Examination Council 034 call report form.

9. NAICS code 531190—Leasing of building space to the Federal Government by Owners: For Government procurement, a size standard of $17.5 million in gross receipts applies to the owners of building space leased to the Federal Government. The standard does not apply to an agent.

10. NAICS codes 488510 (part), 531210, 541810, 561510 and 561920—As measured by total revenues, but excluding funds received in trust for an unaffiliated third party, such as bookings or sales subject to commissions. The commissions received are included as revenue.

11. NAICS code 541710—For research and development contracts requiring the delivery of a manufactured product, the appropriate size standard is that of the manufacturing industry.

(a) “Research and Development” means laboratory or other physical research and development. It does not include economic, educational, engineering, operations, systems, or other nonphysical research; or computer programming, data processing, commercial and/or medical laboratory testing.

(b) For purposes of the Small Business Innovation Research (SBIR) program only, a different definition has been established by law. See § 121.701 of these regulations.

(c) “Research and Development” for guided missiles and space vehicles includes evaluations and simulation, and other services requiring thorough knowledge of complete missiles and spacecraft.

12. NAICS code 561210—Facilities Management, a component of NAICS 561210, includes establishments, not classified elsewhere, which provide overall management and personnel to perform a variety of related support services in operating a complete facility in or around a specific building, or within another business or Government establishment. Facilities management means furnishing three or more personnel supply services which may include, but are not limited to secretarial services, typists, word processing, maintaining files and/or libraries, telephone answering, switchboard operation, reproduction or mimeograph service, mailing service, writers, bookkeeping, financial or business management, public relations, conference planning, minor office equipment maintenance and repair, use of information systems (not programming), word processing, travel arrangements, maintaining files and/or libraries.

13. NAICS code 238990 (All Other Special Trade Contractors) and NAICS code 561210 (Facilities Support Services)—Base Maintenance:

(a) If one of the activities of base maintenance, as defined in paragraph (b) (below in this endnote) can be identified with a separate industry and that activity (or industry) accounts for 50 percent or more of the value of an entire contract, then the proper size standard is that of the particular industry, and not the base maintenance size standard.

(b) “Base Maintenance” requires the performance of three or more separate activities in the areas of service or special trade construction industries. If services are performed, these activities must each be in a separate NAICS code including, but not limited to, Janitorial and Custodial Service, Fire Prevention Service, Messenger Service, Commissary Service, Protective Guard Service, and Grounds Maintenance and Landscaping Service. If the contract requires the use of special trade contractors (plumbing, painting, plastering, carpentry, etc.), all such special trade construction activities are considered a single activity and classified as Base Housing Maintenance. Since Base Housing Maintenance is only one activity, two additional activities are required for a contract to be classified as “Base Maintenance.”

14. NAICS 562910—Environmental Remediation Services:

(a) For SBA assistance as a small business concern in the industry of Environmental Remediation Services, other than for Government procurement, a concern must be engaged primarily in furnishing a range of services for the remediation of a contaminated environment to an acceptable condition including, but not limited to, preliminary assessment, site inspection, testing, remedial investigation, feasibility studies, remedial design, containment, remedial action, removal of contaminated materials, storage of contaminated materials and security and site closeouts. If one of such activities accounts for 50 percent or more of a concern's total revenues, employees, or other related factors, the concern's primary industry is that of the particular industry and not the Environmental Remediation Services Industry.

(b) For purposes of classifying a Government procurement as Environmental Remediation Services, the general purpose of the procurement must be to restore a contaminated environment and also the procurement must be composed of activities in three or more separate industries with separate NAICS codes or, in some instances (e.g., engineering), smaller sub-components of NAICS codes with separate, distinct size standards. These activities may include, but are not limited to, separate activities in industries such as: Heavy Construction; Special Trade Construction; Engineering Services; Architectural Services; Management Services; Refuse Systems; Sanitary Services, Not Elsewhere Classified; Local Trucking Without Storage; Testing Laboratories; and Commercial, Physical and Biological Research. If any activity in the procurement can be identified with a separate NAICS code, or component of a code with a separate distinct size standard, and that industry accounts for 50 percent or more of the value of the entire procurement, then the proper size standard is the one for that particular industry, and not the Environmental Remediation Service size standard.

15. Subsector 483—Water Transportation—Offshore Marine Services: The applicable size standard shall be $23.5 million for firms furnishing specific transportation services to concerns engaged in offshore oil and/or natural gas exploration, drilling production, or marine research; such services encompass passenger and freight transportation, anchor handling, and related logistical services to and from the work site or at sea.

Dated: August 26, 2002.
Gary M. Jackson,
Assistant Administrator for Size Standards.

[FR Doc. 02-22201 Filed 9-5-02; 8:45 am]

BILLING CODE 8025-01-P